FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 010776-126.

Title: Asia North America Eastbound Rate Agreement.

Parties: American President Lines, Ltd.; APL Co. Pte Ltd.; Hapag-Lloyd Container Line GmbH; Kawasaki Kisen Kaisha, Ltd.; Mitsui O.S.K. Lines, Ltd.; A. P. Moller-Maersk A/S; Nippon Yusen Kaisha Line; Orient Overseas Container Line Limited; P&O Nedlloyd B.V.; and P&O Nedlloyd Limited.

Filing Party: David F. Smith, Esquire; Sher & Blackwell; 1850 M Street, NW., Suite 900; Washington, DC 20036.

Synopsis: The modification extends the suspension of the conference through May 1, 2005.

Agreement No.: 011695-008.

Title: CMA CGM/Norasia Reciprocal Space Charter, Sailing and Cooperative Working Agreement.

Parties: CMA CGM, S.A. and Norasia Container Lines Limited.

Filing Party: Paul M. Keane, Esq.; Cichanowicz, Callan, Keane, Vengrow & Textor, LLP; 61 Broadway, Suite 3000; New York, NY 10006-2802.

Synopsis: The proposed modification would convert the agreement from a cross space charter agreement to a slot charter agreement with CMA CGM giving space to Norasia. The parties request expedited review.

Agreement No.: 201163.

Title: Port of Portland/Port of Vancouver Intergovernmental Cooperation Agreement.

Parties: The Port of Portland, an Oregon Port District; and The Port of Vancouver, USA, a Washington Port District.

Filing Party: Paul D. Coleman, Esq.; Hoppel, Mayer & Coleman; 1000 Connecticut Avenue, NW.; Washington, DC 20036.

Synopsis: The proposed agreement would authorize the parties to engage in joint marketing activities and joint facility development in accordance with a stated cost and revenue sharing formula. The parties request expedited review.

Dated: November 10, 2004.
By Order of the Federal Maritime Commission.
Karen V. Gregory,
Assistant Secretary.

[FR Doc. 04-25435 Filed 11-15-04; 8:45 am]

BILLING CODE 6730-01-P